DEPARTMENT OF ENERGY

Federal Energy Regulatory Commission

[Docket No. CP06-124-000]

Gulf South Pipeline Company; Notice of Request Under Blanket Authorization

April 19, 2006.

Take notice that on April 7, 2006, Gulf South Pipeline Company, LP (Gulf South), 20 East Greenway, Houston, Texas 77046, filed in Docket No. CP06-124-000, a request pursuant to sections 157.205 and 157. 208 of the Commission's regulations under the Natural Gas Act (18 CFR 157.205 and 157.208 (2005)) for authorization to reduce the maximum allowable operating pressure (MAOP) of its 8-inch Jackson to Hattiesburg Lateral located in Rankin, Simpson, Covington, Forrest, and Jones Counties, Mississippi, under Gulf South's blanket certificate issued in Docket No CP82-430-000 pursuant to section 7(c) of the Natural Gas Act, all as more fully set forth in the application which is on file with the Commission and open to public inspection. The filing may also be viewed on the Web at http://www.ferc.gov using the “eLibrary” link. Enter the docket number excluding the last three digits in the docket number field to access the document. For assistance, contact FERC at FERCOnlineSupport@gerc.gov or call toll-free, (886) 208-3676 or TYY, (202) 502-8659.

Gulf South proposes to reduce the MAOP of Index 387, between milepost 0.00 and milepost 80, from 419 psig to 165 psig. Gulf South confirms that recent operating history of this Lateral shows that customers consistently have requested and used substantially lower volumes of gas. Gulf South states that the current firm transportation obligations on Index 387 are approximately 12.0 MMcf per day, and that the proposed reduction of the MAOP will not affect their ability to meet its contractual firm obligations, since the demand for natural gas deliveries from the Lateral has been minimal. Also, Gulf South neither foresees a material increase in demand nor any market requirement for Gulf South to maintain a higher MAOP on this Lateral. Furthermore, Gulf South explains that over the years there has been a significant encroachment of the pipeline in this area due to an increase in population density. As a result, Gulf South believes that it is acting in the public interest in lowering the MAOP of the line due to this encroachment. Also, Gulf South states that their proposal to lower the MAOP of Index 387 will permit them to continue to operate the Lateral well within safe limits given the age of the line and the increase in population density without adversely affecting the reliability of the line. Finally, Gulf South states that no construction activities will be required to facilitate the MAOP reduction.

Any person or the Commission's Staff may, within 45 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

Any questions regarding this application should be directed to J. Kyle Stephens, Director of Certificates, Gulf South Pipeline Company, LP, 20 East Greenway Plaza, Houston, Texas 77046, or call (713) 544-7309 or fax (713) 544-3540 or by e-mail kyle.stephens@gulfsouthpl.com.

The Commission strongly encourages electronic filings of comments, protests, and interventions via the Internet in lieu of paper. See 18 CFR 385.2001(a)(1)(iii) and the instructions on the Commission's Web site (http://www.ferc.gov) under the “e-Filing” link.

Magalie R. Salas,
Secretary.

[FR Doc. E6-6239 Filed 4-25-06; 8:45 am]

BILLING CODE 6717-01-P